DEPARTMENT OF HEALTH AND HUMAN SERVICES

Health Resources and Services Administration

Agency Information Collection Activities: Submission for OMB Review; Comment Request

The Health Resources and Services Administration (HRSA) periodically publishes abstracts of information collection requests under review by the Office of Management and Budget (OMB), in compliance with the Paperwork Reduction Act of 1995 (44 U.S.C. chapter 35). To request a copy of the clearance requests submitted to OMB for review, email paperwork@hrsa.gov or call the HRSA Reports Clearance Office at (301) 443-1984.

The following request has been submitted to the Office of Management and Budget for review under the Paperwork Reduction Act of 1995:

Proposed Project: Healthy Weight Collaborative Evaluation (OMB No. 0915-xxxx)—[NEW]

Background: Supported by the Prevention and Public Health Fund created by Section 4002 of the Affordable Care Act, HRSA awarded $5 million to the National Initiative for Children's Healthcare Quality (NICHQ) to create the Collaborative for Healthy Weight, a national initiative to bring together primary care providers, public health professionals, and leaders of community-based organizations to use quality improvement methods to address the obesity epidemic in communities across the country. A key part of that initiative was creation of the Healthy Weight Collaborative (HWC), a quality improvement project working with 50 community teams to identify, test, and evaluate a national “change package” of evidence-based program and policy interventions to address childhood obesity. The HWC is being implemented in two consecutive phases, each with a series of learning sessions and action periods. The first phase (July 2011 to July 2012) includes 10 community teams; the second phase (March 2012 to March 2013) includes 40 additional teams.

Purpose: The purpose of this evaluation is to assess the quality and effectiveness of the HWC. This one-year information collection will supplement the analysis of existing quantitative HWC administrative and team data by collecting primary data using individual and group interviews with two groups of stakeholders: (a) NICHQ project leadership, staff, and faculty; and (b) community team members at 11 selected sites (four Phase 1 teams and seven Phase 2 teams). Data from these interviews will be used to evaluate the quality and effectiveness of the HWC. NICHQ leadership, staff, and faculty interview topics include: the design and implementation of the HWC project; the content and quality of the HWC learning sessions, coaching assistance, and other action period activities; the community teams' experiences implementing the HWC change package and quality improvement indicators; and stakeholders' perceptions of the quality and effectiveness of the HWC in accelerating community efforts to address childhood obesity. Community team interviews will be conducted with the team coordinator, the quality improvement data manager, and other team members, including primary care providers, public health officials, school administrators, and other community volunteers. Separate interview protocols will be developed for the Phase 1 and Phase 2 community teams. Phase 1 protocols will examine community team strategies, activities, and approaches that have been sustained and spread after the end of Phase 1. Phase 2 protocols will examine: (1) Team goals, objectives, and program elements; (2) team implementation of the HWC change package; (3) team engagement in HWC activities; and (4) team linkages and organizational and policy changes resulting from the team's participation in the HWC.

The annual estimate of burden is as follows:

Instrument | Number of respondents | Responses per respondent | Total responses | Hours per response | Total burden hours
NICHQ Leaders Interview | 4 | 1 | 4 | 1.0 | 4.0
NICHQ Staff Interview | 5 | 1 | 5 | 1.0 | 5.0
NICHQ Faculty Group Interview | * 6 | 1 | 6 | 1.0 | 6.0
Phase 1 Team Group Interview | ** 24 | 1 | 24 | 1.5 | 36.0
Phase 1 Team Coordinator Interview | 4 | 1 | 4 | 1.5 | 6.0
Phase 1 Team Data Manager Interview | 4 | 1 | 4 | .5 | 2.0
Phase 2 Team Group Interview | *** 42 | 1 | 42 | 1.5 | 63.0
Phase 2 Team Coordinator Interview | 7 | 1 | 7 | 1.5 | 10.5
Phase 2 Team Data Manager Interview | 7 | 1 | 7 | .5 | 3.5
Total | 103 |  | 103 |  | 136.0
* One group interview: 6 people per group.
** Four group interviews: 6 people per group.
*** Seven group interviews: 6 people per group.

Written comments and recommendations concerning the proposed information collection should be sent within 30 days of this notice to the desk officer for HRSA, either by email to OIRA_submission@omb.eop.gov or by fax to 202-395-5806. Please direct all correspondence to the “attention of the desk officer for HRSA.”

Dated: September 26, 2012.
Bahar Niakan,
Director, Division of Policy and Information Coordination.

[FR Doc. 2012-24249 Filed 10-1-12; 8:45 am]

BILLING CODE 4165-15-P